DEPARTMENT OF THE INTERIOR

National Park Service

[NPS-WASO-NRNHL-16712;PPWOCRADI0, PCU00RP14.R50000]

National Register of Historic Places; Notification of Pending Nominations and Related Actions

Nominations for the following properties being considered for listing or related actions in the National Register were received by the National Park Service before September 5, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by October 14, 2014. Before including your address, phone number, email address, or other personal identifying information in your comment, you should be aware that your entire comment—including your personal identifying information—may be made publicly available at any time. While you can ask us in your comment to withhold your personal identifying information from public review, we cannot guarantee that we will be able to do so.

Dated: September 17, 2014.
J. Paul Loether,
Chief, National Register of Historic Places/National Historic Landmarks Program.

CONNECTICUT

Hartford County

Hartford National Bank and Trust, 777 Main & 33 Asylum Sts., Hartford, 14000867

MINNESOTA

Houston County

Hokah Municipal Building, (Federal Relief Construction in Minnesota MPS AD) 57 Main St., Hokah, 14000868

Renville County

Sacred Heart Public School, 100 Elm St., Sacred Heart, 14000869

MISSOURI

Boone County

Sigma Alpha Epsilon Building, 24 E. Stewart Rd., Columbia, 14000870

Greene County

McDaniel Building, 316 Park Central E., Springfield, 14000871

Jasper County

Sarcoxie Public Square Historic District, Along 5th, 6th, Center & Cross Sts., Sarcoxie, 14000872

NEW YORK

Kings County

Nassau Brewing Company, 925-949 Bergan & 1024 Dean Sts., Brooklyn, 14000873

Richmond County

Building at One Pendleton Place, 1 Pendleton Pl., Staten Island, 14000874

OREGON

Multnomah County

Heathman Hotel, (Downtown Portland, Oregon MPS) 723 SW. Salmon St., Portland, 14000879

SOUTH CAROLINA

Richland County

Columbia Commercial Historic District, Portions of Main, Blanding, Taylor & Sumter Sts., Columbia, 14000875

WISCONSIN

La Crosse County

Funke, Joseph B., Company, 101 State St., La Crosse, 14000876

Manitowoc County

FLORETTA (canaller) Shipwreck, (Great Lakes Shipwreck Sites of Wisconsin MPS) 11 mi. SE. of Manitowac, Centerville, 14000877

Milwaukee County

Square D Company—Industrial Controller Division, 710 S. 3rd St., Milwaukee, 14000878

A request for removal has been received for the following properties:

INDIANA

Pulaski County

Pulaski County Bridge No. 31, Cty. Rd. 1175 W., Medaryville, 03000546

IOWA

Carroll County

Coon Rapids Bridge, (Highway Bridges of Iowa MPS) Sumpter Ave. over Middle Raccoon R., Coon Rapids, 98000745

Des Moines County

Flint River Bridge, (Highway Bridges of Iowa MPS) 155th St. over Flint R., Burlington, 98000792

Keokuk County

Hayesville Independent School, 231 Washington St., Hayesville, 90001195

Winneshiek County

Turkey River Bridge, (Highway Bridges of Iowa MPS) Little Church Rd. over Turkey R. Festina, 98000468

OREGON

Lincoln County

TRADEWINDS KINGFISHER (cruiser), Depoe Bay Boat Basin, Depoe Bay, 91001562

[FR Doc. 2014-23040 Filed 9-26-14; 8:45 am]

BILLING CODE 4312-51-P